DEPARTMENT OF LABOR

Employment and Training Administration

[TA-W-81,260]

Cinram Distribution, LLC, a Subsidiary of Cinram International Income Fund, Including On-Site Leased Workers From Good People, Including Workers Whose Unemployment Insurance (UI) Wages Are Reported Through Real Time Staffing, Aurora, IL; Amended Certification Regarding Eligibility To Apply for Worker Adjustment Assistance

In accordance with Section 223 of the Trade Act of 1974, as amended (“Act”), 19 U.S.C. 2273, the Department of Labor issued a Certification of Eligibility to Apply for Worker Adjustment Assistance on February 3, 2012, applicable to workers of Cinram Distribution, LLC, a subsidiary of Cinram International Income Fund, including on-site leased workers from Good People, Aurora, Illinois. The workers are engaged in the supply of optical media distribution services. The notice was published in the Federal Register on February 21, 2012 (77 FR 9971).

At the request of Illinois State, the Department reviewed the certification for workers of the subject firm. New information shows that workers leased from Good People employed on-site at the Aurora, Illinois location of Cinram Distribution, LLC, a subsidiary of Cinram International Income Fund had their wages reported through a separate unemployment insurance (UI) tax account under the name Real Time Staffing.

Accordingly, the Department is amending this certification to properly reflect this matter.

The intent of the Department's certification is to include all workers of the subject firm who were adversely affected by increased company imports of the supply of optical media distribution.

The amended notice applicable to TA-W-81,260 is hereby issued as follows:

All workers from Cinram Distribution, LLC, a subsidiary of Cinram International Income Fund, including on-site leased workers from Good People, including workers whose unemployment insurance (UI) wages are reported through Real Time Staffing, Aurora, Illinois, who became totally or partially separated from employment on or after January 20, 2011 through February 3, 2014, and all workers in the group threatened with total or partial separation from employment on date of certification through two years from the date of certification, are eligible to apply for adjustment assistance under Chapter 2 of Title II of the Trade Act of 1074, as amended.

Signed at Washington, DC, this 14th day of March 2012.
Del Min Amy Chen,
Certifying Officer, Office of Trade Adjustment Assistance.

[FR Doc. 2012-7157 Filed 3-23-12; 8:45 am]

BILLING CODE 4510-FN-P